DEPARTMENT OF ENERGY

Federal Energy Regulatory Commission

Combined Notice of Filings

Take notice that the Commission has received the following Natural Gas Pipeline Rate and Refund Report filings:

Filings Instituting Proceedings

Docket Numbers: CP22-10-000.

Applicants: Southern Natural Gas.

Description: Application for Authorization of Abonnement for Rate Schedule X-74 of Southern Natural Gas Company, L.L.C.

Filed Date: 10/26/21.

Accession Number: 2021026-5033.

Comment Date: 5 p.m. ET 11/16/21.

Docket Numbers: RP21-778-000.

Applicants: Southern Star Central Gas Pipeline, Inc.

Description: Motion Filing: Rate Case (RP21-778) Motion Filing to be effective 11/1/2021.

Filed Date: 10/29/21.

Accession Number: 20211029-5251.

Comment Date: 5 p.m. ET 11/10/21.

Docket Numbers: RP22-131-000.

Applicants: El Paso Natural Gas Company, L.L.C.

Description: § 4(d) Rate Filing: Negotiated Rate Agreement Update (SoCal) to be effective 11/1/2021.

Filed Date: 10/29/21.

Accession Number: 20211029-5170.

Comment Date: 5 p.m. ET 11/10/21.

Docket Numbers: RP22-132-000.

Applicants: OkTex Pipeline Company, L.L.C.

Description: Compliance filing: 2020—2021 Gas Sales and Purchase Report to be effective N/A.

Filed Date: 10/29/21.

Accession Number: 20211029-5178.

Comment Date: 5 p.m. ET 11/10/21.

Docket Numbers: RP22-133-000.

Applicants: Rockies Express Pipeline LLC.

Description: § 4(d) Rate Filing: REX 2021-10-29 Negotiated Rate Agreements to be effective 11/1/2021.

Filed Date: 10/29/21.

Accession Number: 20211029-5180.

Comment Date: 5 p.m. ET 11/10/21.

Docket Numbers: RP22-134-000.

Applicants: Golden Triangle Storage, Inc.

Description: § 4(d) Rate Filing: GTS No-Notice Firm Storage Service to be effective 12/1/2021.

Filed Date: 10/29/21.

Accession Number: 20211029-5181.

Comment Date: 5 p.m. ET 11/10/21.

Docket Numbers: RP22-135-000.

Applicants: Columbia Gulf Transmission, LLC.

Description: § 4(d) Rate Filing: Capacity Allocation—Interruptions of Service to be effective 12/1/2021.

Filed Date: 10/29/21.

Accession Number: 20211029-5185.

Comment Date: 5 p.m. ET 11/10/21.

Docket Numbers: RP22-136-000.

Applicants: Maritimes & Northeast Pipeline, L.L.C.

Description: § 4(d) Rate Filing: Negotiated Rates—Various Releases eff 11-1-2021 to be effective 11/1/2021.

Filed Date: 10/29/21.

Accession Number: 20211029-5196.

Comment Date: 5 p.m. ET 11/10/21.

Docket Numbers: RP22-137-000.

Applicants: Transcontinental Gas Pipe Line Company, LLC.

Description: § 4(d) Rate Filing: Tariff Records for New Pooling Locations to be effective 12/1/2021.

Filed Date: 10/29/21.

Accession Number: 20211029-5213.

Comment Date: 5 p.m. ET 11/10/21.

Docket Numbers: RP22-138-000.

Applicants: Transcontinental Gas Pipe Line Company, LLC.

Description: § 4(d) Rate Filing: Negotiated Rates—Cherokee AGL—Replacement Shippers—Nov 2021 to be effective 11/1/2021.

Filed Date: 10/29/21.

Accession Number: 20211029-5224.

Comment Date: 5 p.m. ET 11/10/21.

Docket Numbers: RP22-139-000.

Applicants: Southern Natural Gas Company, L.L.C.

Description: § 4(d) Rate Filing: Negotiated Rate Clean-Up Filing to be effective 11/2/2021.

Filed Date: 10/29/21.

Accession Number: 20211029-5246.

Comment Date: 5 p.m. ET 11/10/21.

Docket Numbers: RP22-140-000.

Applicants: Elba Express Company, L.L.C.

Description: § 4(d) Rate Filing: Measurement Filing to be effective 12/1/2021.

Filed Date: 10/29/21.

Accession Number: 20211029-5248.

Comment Date: 5 p.m. ET 11/10/21.

Docket Numbers: RP22-141-000.

Applicants: Guardian Pipeline, L.L.C.

Description: Compliance filing: 2020—2021 Gas Sales and Purchase Report to be effective N/A.

Filed Date: 10/29/21.

Accession Number: 20211029-5253.

Comment Date: 5 p.m. ET 11/10/21.

Docket Numbers: RP22-142-000.

Applicants: Texas Eastern Transmission, LP.

Description: § 4(d) Rate Filing: TETLP PCB DEC 2021 Filing to be effective 12/1/2021.

Filed Date: 10/29/21.

Accession Number: 20211029-5259.

Comment Date: 5 p.m. ET 11/10/21.

Docket Numbers: RP22-143-000.

Applicants: Midwestern Gas Transmission Company.

Description: Compliance filing: 2020—2021 Gas Sales and Purchase Report to be effective N/A.

Filed Date: 10/29/21.

Accession Number: 20211029-5266.

Comment Date: 5 p.m. ET 11/10/21.

Docket Numbers: RP22-144-000.

Applicants: Midwestern Gas Transmission Company.

Description: Compliance filing: 2020—2021 Cash Out Report to be effective N/A.

Filed Date: 10/29/21.

Accession Number: 20211029-5270.

Comment Date: 5 p.m. ET 11/10/21.

Docket Numbers: RP22-145-000.

Applicants: Elba Express Company, L.L.C.

Description: § 4(d) Rate Filing: Negotiated Rate Clean-up Filing to be effective 11/1/2021.

Filed Date: 10/29/21.

Accession Number: 20211029-5277.

Comment Date: 5 p.m. ET 11/10/21.

Docket Numbers: RP22-146-000.

Applicants: Viking Gas Transmission Company.

Description: Compliance filing: 2020—2021 Gas Sales and Purchase Report to be effective N/A.

Filed Date: 10/29/21.

Accession Number: 20211029-5282.

Comment Date: 5 p.m. ET 11/10/21.

Docket Numbers: RP22-147-000.

Applicants: Equitrans, L.P.

Description: § 4(d) Rate Filing: Negotiated Rate Agreements Effective 11/1/2021 to be effective 11/1/2021.

Filed Date: 10/29/21.

Accession Number: 20211029-5289.

Comment Date: 5 p.m. ET 11/10/21.

Docket Numbers: RP22-148-000.

Applicants: Trailblazer Pipeline Company LLC.

Description: § 4(d) Rate Filing: TPC 2021-10-29 Negotiated Rate Agreements and Amendment to be effective 11/1/2021.

Filed Date: 10/29/21.

Accession Number: 20211029-5351.

Comment Date: 5 p.m. ET 11/10/21.

Docket Numbers: RP22-149-000.

Applicants: Texas Eastern Transmission, LP.

Description: § 4(d) Rate Filing: TETLP ASA DEC 2021 FILING to be effective 12/1/2021.

Filed Date: 11/1/21.

Accession Number: 20211101-5002.

Comment Date: 5 p.m. ET 11/15/21.

Docket Numbers: RP22-150-000.

Applicants: Texas Eastern Transmission, LP.

Description: § 4(d) Rate Filing: Negotiated Rates—Various Releases eff 11-1-2021 to be effective 11/1/2021.

Filed Date: 11/1/21.

Accession Number: 20211101-5004.

Comment Date: 5 p.m. ET 11/15/21.

Docket Numbers: RP22-151-000.

Applicants: Algonquin Gas Transmission, LLC.

Description: § 4(d) Rate Filing: Negotiated Rates—Various Releases eff 11-1-2021 to be effective 11/1/2021..

Filed Date: 11/1/21.

Accession Number: 20211101-5008.

Comment Date: 5 p.m. ET 11/15/21.

Docket Numbers: RP22-152-000.

Applicants: NEXUS Gas Transmission, LLC.

Description: § 4(d) Rate Filing: Negotiated Rates—Various 11-1-2021 Releases to be effective 11/1/2021.

Filed Date: 11/1/21.

Accession Number: 20211101-5030.

Comment Date: 5 p.m. ET 11/15/21.

Docket Numbers: RP22-153-000.

Applicants: Texas Eastern Transmission, LP.

Description: § 4(d) Rate Filing: Negotiated Rates—Con Ed 910950 Releases 11-1-2021 to be effective 11/1/2021.

Filed Date: 11/1/21.

Accession Number: 20211101-5031.

Comment Date: 5 p.m. ET 11/15/21.

Docket Numbers: RP22-154-000.

Applicants: Equitrans, L.P.

Description: § 4(d) Rate Filing: Negotiated Rate Capacity Release Agreements—11/1/2021 to be effective 11/1/2021.

Filed Date: 11/1/21.

Accession Number: 20211101-5032.

Comment Date: 5 p.m. ET 11/15/21.

Docket Numbers: RP22-155-000.

Applicants: Texas Eastern Transmission, LP.

Description: § 4(d) Rate Filing: Negotiated Rates—ConEd 911792 Releases 11-1-2021 to be effective 11/1/2021.

Filed Date: 11/1/21.

Accession Number: 20211101-5033.

Comment Date: 5 p.m. ET 11/15/21.

Docket Numbers: RP22-156-000.

Applicants: Iroquois Gas Transmission System, L.P.

Description: § 4(d) Rate Filing: 11.1.21 Negotiated Rates—TM Energy Atlantica Inc. H-8085-89 to be effective 11/1/2021.

Filed Date: 11/1/21.

Accession Number: 20211101-5052.

Comment Date: 5 p.m. ET 11/15/21.

Docket Numbers: RP22-157-000.

Applicants: Equitrans, L.P.

Description: Compliance filing: Operational Purchases and Sales Report for 2021 to be effective N/A..

Filed Date: 11/1/21.

Accession Number: 20211101-5060.

Comment Date: 5 p.m. ET 11/15/21.

Docket Numbers: RP22-158-000.

Applicants: Rover Pipeline LLC.

Description: Compliance filing: RVR Cost and Revenue Study in Compliance with CP15-93-000 and CP15-93-001 Order to be effective N/A.

Filed Date: 11/1/21.

Accession Number: 20211101-5079.

Comment Date: 5 p.m. ET 11/15/21.

Docket Numbers: RP22-159-000.

Applicants: Texas Eastern Transmission, LP.

Description: § 4(d) Rate Filing: Non-conforming—Twin Eagle, Castleton, and Sequent to be effective 11/1/2021.

Filed Date: 11/1/21.

Accession Number: 20211101-5080.

Comment Date: 5 p.m. ET 11/15/21.

Docket Numbers: RP22-160-000.

Applicants: WBI Energy Transmission, Inc.

Description: § 4(d) Rate Filing: 2021 Negotiated & Non-Conforming SA with ONEOK to be effective 12/2/2021.

Filed Date: 11/1/21.

Accession Number: 20211101-5081.

Comment Date: 5 p.m. ET 11/15/21.

Docket Numbers: RP22-161-000.

Applicants: Texas Gas Transmission, LLC.

Description: § 4(d) Rate Filing: Cap Rel Neg Rate Agmt (Kaiser Mktg 35448 to Kaiser Appalachian 39247) to be effective 11/1/2021.

Filed Date: 11/1/21.

Accession Number: 20211101-5092.

Comment Date: 5 p.m. ET 11/15/21.

Docket Numbers: RP22-162-000.

Applicants: Gulf South Pipeline Company, LLC.

Description: § 4(d) Rate Filing: Cap Rel Neg Rate Agmt (Constellation 54459 to Exelon 54487) to be effective 11/1/2021.

Filed Date: 11/1/21.

Accession Number: 20211101-5103.

Comment Date: 5 p.m. ET 11/15/21.

Docket Numbers: RP22-163-000.

Applicants: Gulf South Pipeline Company, LLC.

Description: § 4(d) Rate Filing: Cap Rel Neg Rate Agmts (Marathon 51753, 51754 to Spire 54462, 54465) to be effective 11/1/2021.

Filed Date: 11/1/21.

Accession Number: 20211101-5104.

Comment Date: 5 p.m. ET 11/15/21.

Docket Numbers: RP22-164-000.

Applicants: Gulf South Pipeline Company, LLC.

Description: § 4(d) Rate Filing: Cap Rel Neg Rate Agmt (Osaka 46429 to Texla 54503) to be effective 11/1/2021.

Filed Date: 11/1/21.

Accession Number: 20211101-5105.

Comment Date: 5 p.m. ET 11/15/21.

Docket Numbers: RP22-165-000.

Applicants: Destin Pipeline Company, L.L.C.

Description: Annual Fuel Retention Adjustment of Destin Pipeline Company, L.L.C.

Filed Date: 11/1/21.

Accession Number: 20211101-5111.

Comment Date: 5 p.m. ET 11/15/21.

Docket Numbers: RP22-166-000.

Applicants: Tennessee Gas Pipeline Company, L.L.C.

Description: Compliance filing: NAESB Version 3.2 Compliance Filing to be effective 6/1/2022.

Filed Date: 11/1/21.

Accession Number: 20211101-5141.

Comment Date: 5 p.m. ET 11/15/21.

Docket Numbers: RP22-167-000.

Applicants: Alliance Pipeline L.P.

Description: § 4(d) Rate Filing: Negotiated Rates—Various Nov 1 Capacity Releases to be effective 11/1/2021.

Filed Date: 11/1/21.

Accession Number: 20211101-5156.

Comment Date: 5 p.m. ET 11/15/21.

Docket Numbers: RP22-168-000.

Applicants: Stagecoach Pipeline & Storage Company LLC.

Description: Compliance filing: NAESB Version 3.2 Compliance Filing to be effective 6/1/2022.

Filed Date: 11/1/21.

Accession Number: 20211101-5157.

Comment Date: 5 p.m. ET 11/15/21.

Docket Numbers: RP22-169-000.

Applicants: Alliance Pipeline L.P.

Description: § 4(d) Rate Filing: Negotiated Rates—Contract Renewal Revisions to be effective 11/1/2021.

Filed Date: 11/1/21.

Accession Number: 20211101-5160.

Comment Date: 5 p.m. ET 11/15/21.

Docket Numbers: RP22-170-000.

Applicants: Arlington Storage Company, LLC.

Description: Compliance filing: NAESB Version 3.2 Compliance Filing to be effective 6/1/2022.

Filed Date: 11/1/21.

Accession Number: 20211101-5162.

Comment Date: 5 p.m. ET 11/15/21.

Docket Numbers: RP22-171-000.

Applicants: Gulf South Pipeline Company, LLC.

Description: § 4(d) Rate Filing: 2021 Fuel Tracker Filing to be effective 4/1/2022.

Filed Date: 11/1/21.

Accession Number: 20211101-5185.

Comment Date: 5 p.m. ET 11/15/21.

Docket Numbers: RP22-172-000.

Applicants: Texas Eastern Transmission, LP.

Description: § 4(d) Rate Filing: Negotiated rate—Con Edison to Marathon Release to be effective 11/1/2021.

Filed Date: 11/1/21.

Accession Number: 20211101-5192.

Comment Date: 5 p.m. ET 11/15/21.

Docket Numbers: RP22-173-000.

Applicants: Texas Eastern Transmission, LP.

Description: § 4(d) Rate Filing: Non-conforming—ConEd 911792 to be effective 11/1/2021.

Filed Date: 11/1/21.

Accession Number: 20211101-5202.

Comment Date: 5 p.m. ET 11/15/21.

Docket Numbers: RP22-174-000.

Applicants: Trailblazer Pipeline Company LLC.

Description: § 4(d) Rate Filing: TPC 2021-11-01 Negotiated Rate Agreement to be effective 11/1/2021.

Filed Date: 11/1/21.

Accession Number: 20211101-5247.

Comment Date: 5 p.m. ET 11/15/21.

Docket Numbers: RP22-175-000.

Applicants: ANR Pipeline Company.

Description: § 4(d) Rate Filing: ANR-Koch NR Agreement No. 136283 to be effective 11/1/2021.

Filed Date: 11/1/21.

Accession Number: 20211101-5257.

Comment Date: 5 p.m. ET 11/15/21.

Docket Numbers: RP22-176-000.

Applicants: Natural Gas Pipeline Company of America LLC.

Description: § 4(d) Rate Filing: Amendment to a Negotiated Rate Agreement Filing-Presidio Finance LLC to be effective 11/1/2021.

Filed Date: 11/1/21.

Accession Number: 20211101-5259.

Comment Date: 5 p.m. ET 11/15/21.

Docket Numbers: RP22-177-000.

Applicants: Texas Eastern Transmission, LP.

Description: § 4(d) Rate Filing: Non-conforming—BUG 911814 to be effective 11/1/2021.

Filed Date: 11/1/21.

Accession Number: 20211101-5266.

Comment Date: 5 p.m. ET 11/15/21.

Docket Numbers: RP22-178-000.

Applicants: Texas Eastern Transmission, LP.

Description: § 4(d) Rate Filing: Non-conforming—Chesapeake 911801 and 911802 to be effective 11/1/2021.

Filed Date: 11/2/21.

Accession Number: 20211102-5001.

Comment Date: 5 p.m. ET 11/15/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP20-1060-005.

Applicants: Columbia Gas Transmission, LLC.

Description: Compliance filing: Stipulation and Agreement of Settlement RP20-1060 et al. to be effective N/A.

Filed Date: 10/29/21.

Accession Number: 20211029-5228.

Comment Date: 5 p.m. ET 11/10/21.

Docket Numbers: RP21-100-005.

Applicants: National Grid LNG, LLC.

Description: Compliance filing: 2021-10-29 Compliance Filing to Implement Settlement Tariff Sheets to be effective 5/1/2021.

Filed Date: 10/29/21.

Accession Number: 20211029-5212.

Comment Date: 5 p.m. ET 11/10/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2021.
Debbie-Anne A. Reese,
Deputy Secretary.

[FR Doc. 2021-24355 Filed 11-5-21; 8:45 am]

BILLING CODE 6717-01-P